DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 A.M. and 5:00 P.M. in Room 4211, U.S. Department of Commerce, 14th Street and Constitution Avenue, NW., Washington, DC.

Docket Number: 01-012. Applicant: Rutgers University, Department of Physics and Astronomy, 136 Frelinghuysen Road, Piscataway, NJ 08854-8019. Instrument: Floating-Zone Optical Furnace, Model FZ-T-10000-H-VI-VP. Manufacturer: Crystal Systems, Inc., Japan. Intended Use: The instrument is intended to be used to grow oxide single crystals such as (La,Ca)MnOq3, SrTiO3, CuGeO3, and La2CuO4 to investigate new magnetic and electronic ground states using the floating-zone crystal growth technique. Application accepted by Commissioner of Customs: May 9, 2001.

Gerald A. Zerdy,
Program Manager, Statutory Import Programs Staff.

[FR Doc. 01-15074 Filed 6-14-01; 8:45 am]

BILLING CODE 3510-DS-P